ENVIRONMENTAL PROTECTION AGENCY

[ER-FRL-6698-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 11, 2008 (73 FR 19833).

Draft EISs

EIS No. 20070436, ERP No. D-FHW-B40339-ME, Wiscasset Route 1 Corridor Study Project, To Relieve Traffic Congestion and Improve Safety, US Army COE Section 404 Permit, Wiscasset and Edgecomb Counties, ME.

Summary: EPA expressed environmental concerns about wetland, water, and air quality impacts. EPA also requested analysis of cumulative impacts. Rating EC2.

EIS No. 20080019, ERP No. D-MMS-B09802-00, Cape Wind Energy Project, Construction, Operation and Maintenance, and Decommissioning of an Electric Generation Facility, Barnstable, Nantucket and Duke County, MA and Washington County, RI.

Summary: EPA's comments highlighted the need for renewable energy sources in the region and underscored the importance of a comprehensive consideration of alternatives, impacts and appropriate mitigation. Rating EC2.

EIS No. 20080050, ERP No. D-FRA-C50016-NJ, Portal Bridge Capacity Enhancement Project, To Replace the nearly 100-Year-Old Portal Bridge and Eliminate Capacity Constraints on the Northeast Corridor between Swift Interlocking and Secaucus Transfer Station, Funding, U.S. Army Corp Section 10 and 404 Permits, Hackensack River, Hudson County, NJ.

Summary: EPA expressed environmental concerns about air quality and wetland impacts, and requested that a general conformity determination, wetlands mitigation, noise mitigation and a cumulative impacts discussion be included in the Final EIS. Rating EC2.

EIS No. 20080053, ERP No. D-FHW-D40341-DC, South Capitol Street Project, Replacement of the Fredrick Douglas Memorial Bridge, from Firth Sterling Avenue, SE., to Independence Avenue and the Suitland Parkway from Martin Luther King, Jr. Avenue, SE., to South Capitol Street, Washington, District of Columbia.

Summary: EPA expressed environmental concerns about air quality impacts and requested additional PM2.5 hot spot analysis. Rating EC2.

EIS No. 20080074, ERP No. D-IBR-K91014-CA, American Basin Fish Screen and Habitat Improvement Project, Construction and Operation of one or two Positive-Barrier Fish Screen Diversion Facilities, Funding and U.S. Army COE Section 10 and 404 Permits, Natomas Mutual, Sacramento and Sutter Counties, CA.

Summary: While EPA has no objections to the proposed action, it did request clarification on resource conservation issues, canal modifications, costs, fisheries, and pumping design limits. Rating LO.

EIS No. 20080090, ERP No. D-BIA-K60040-CA, Enterprise Rancheria Gaming Facility and Hotel Fee-To-Trust Acquisition Project, Implementation, Federal Trust, Estom Yumeka Maida Tribe, Yuba County, CA.

Summary: EPA does not object to the proposed project, but suggested additional mitigation measures to further reduce environmental impacts. Rating LO.

EIS No. 20080112, ERP No. DS-NOA-K90031-CA, Channel Islands National Marine Sanctuary Management Plan, Supplement/Replace Information, Implementation, Santa Barbara and Ventura Counties, CA.

Summary: EPA does not object to the proposed project. Rating LO.

Final EISs

EIS No. 20070525, ERP No. F-NPS-K65324-CA, Big Lagoon Wetland and Creek Restoration Project, To Restore a Functional, Self-Sustaining Ecosystem, including Wetland, Riparian, and Aquatic Components, Golden Gate National Area, Muir Beach, Marin County, CA.

Summary: No formal comment letter was sent to the preparing agency.

EIS No. 20080034, ERP No. F-FHW-B40097-NH, Spaulding Turnpike Improvements Project, Reconstruction and Widening of a 3.5-mile Section from U.S. Route 4 and NH Route 16, US Coast Guard Bridge Permit, NPDES Permit and US Army COE Section 404 Permit, Town of Newington, City of Dover, Strafford and Rockingham Counties, NH.

Summary: EPA had no outstanding objections to the project, but continued to encourage NHDOT/FHWA to commit to mitigation to address anticipated air quality impacts.

EIS No. 20080058, ERP No. F-BOP-E81040-AL, Aliceville, Alabama Area, Proposed Federal Correctional Complex, To Address the Growing Federal Inmate Population, Pickens County, AL.

Summary: EPA continues to have environmental concerns about aquatic resource impacts, and requested commitments to mitigate those impacts in the Record of Decision.

EIS No. 20080065, ERP No. F-BLM-L65513-ID, Snake River Birds of Prey National Conservation Area, Resource Management Plan, Implementation, Ada, Canyon, Elmore, Owyhee Counties, ID.

Summary: EPA supports the goals and objectives of the Resources Management Plan; however, we still have concerns with potential environmental impacts from grazing.

EIS No. 20080066, ERP No. F-BLM-L65471-ID, Fire, Fuels and Related Vegetation Management Direction Plan Amendment, Upper Snake River District (The District), Amending 12 Existing Land Use Plans, Several Counties, ID.

Summary: EPA supports protecting sagebrush steppe ecosystems and associated wildlife species. However, we continue to express concerns with potential impacts to air quality, from prescribed fire use allowed under Alternative E. We believe that additional siting information for fire treatments and air quality monitoring should be considered.

EIS No. 20080089, ERP No. F-BLM-K65305-CA, United States Gypsum Expansion/Modernization Project, Expand and Upgrade Plaster City Plant to Increase Wallboard Production Capacity with Related increases in Water Supply, Right-of-Way Grant, Imperial County, CA.

Summary: EPA continues to expressed environmental concerns about potential impacts to groundwater quality and quantity and waters of the U.S., and recommended the Bureau of Land Management address these issues prior to issuing Record of Decision the mining permit.

EIS No. 20080097, ERP No. F-FRC-K05065-CA, Upper American River Hydroelectric FERC NO. 2101-084, El Dorado and Sacramento Counties, CA and Chili Bar Hydroelectric FERC No. 2155-024, El Dorado County, CA, Issuance of a New License for the Existing and Proposed Hydropower Projects.

Summary: No formal comment letter was sent to the preparing agency.

EIS No. 20080101, ERP No. F-FHW-L40229-ID, ID-75 Timmerman to Ketchum—US-20 to Saddle Road, Preferred Alternative is 2, Increase Roadway and Transportation Safety, Cities of Bellevue, Hailey, Ketchum and the City of Sun Valley, Blaine County, ID.

Summary: EPA continues to recommend that construction mitigation measures are augmented to further release minimize air toxics and diesel particulate matter emissions.

EIS No. 20080110, ERP No. F-BIA-K65299-CA, Scotts Valley Band of Pomo Indians, Proposed 29.87 Acre Fee-to-Trust Transfer and Casino Project, Contra Costa County.

Summary: EPA's concerns were addressed in the Final EIS; therefore, EPA does not object to the proposed project.

EIS No. 20080116, ERP No. F-FRC-G03035-00r, Gulf Crossing Project, Construction and Operation of Natural Gas Pipeline to Facilitate the Transport of up to 1.73 Billion Cubic Feet Per Day of Natural Gas, Locate in various Counties and Parishes in OK, TX, LA and MS.

Summary: EPA continues to have environmental concerns about air quality impacts.

EIS No. 20080132, ERP No. F-USN-D11042-VA, Marine Corps Base Quantico (MCBQ) Virginia Project, Proposes Development of the Westside of MCBQ and the 2005 Base Realignment and Closure Action at MCBQ, Implementation, Quantico, VA.

Summary: EPA has determined that the U.S. Marine Corps has adequately addressed its comments within the FEIS; therefore, EPA does not object to the proposed project.

EIS No. 20080098, ERP No. FS-COE-G39044-TX, Central City Project, Proposed Modification to the Authorized Projects which provides Flood Damage Reduction, Habitat Improvement, Recreation and Urban Revitalization, Upper Trinity River Central City, Upper Trinity River Basin, Trinity River, Fort Worth, TX.

Summary: No formal comment letter was sent to the preparing agency.

Dated: May 6, 2008.
Robert W. Hargrove,
Director, NEPA Compliance Division, Office of Federal Activities.

[FR Doc. E8-10401 Filed 5-8-08; 8:45 am]

BILLING CODE 6560-50-P